DEPARTMENT OF ENERGY

Federal Energy Regulatory Commission

[Docket No. CP01-5-003]

Algonquin Gas Transmission Company; Notice of Extension of Time

March 4, 2003.

By this notice, the date for filing interventions, protests, and comments in this proceeding, is hereby extended to and including April 7, 2003.

Magalie R. Salas,
Secretary.

[FR Doc. 03-5656 Filed 3-10-03; 8:45 am]

BILLING CODE 6717-01-P